DEPARTMENT OF THE INTERIOR

National Park Service

[NPS-WASO-CONC-37453; PPWOBSADC0, PPMVSCS1Y.Y00000]

Notice of Intent To Extend Concession Contract CC-GATE015-03

AGENCY: National Park Service, Interior.

ACTION: Public notice.

SUMMARY: The National Park Service gives public notice that, pursuant to the terms of Concession Contract CC-GATE015-03 and in accordance with NPS regulations, it intends to extend Concession Contract CC-GATE015-03 until April 14, 2025, or until the effective date of a new authorization, whichever comes first.

DATES: The National Park Service intends that the extension for Concession Contract CC-GATE015-03 will be effective from April 15, 2024, until April 14, 2025.

FOR FURTHER INFORMATION CONTACT: Kurt Rausch, Program Chief, Commercial Services Program, National Park Service, 1849 C Street NW, Mail Stop 2410, Washington, DC 20240; Telephone: 202-513-7156.

SUPPLEMENTARY INFORMATION: Concession Contract CC-GATE015-03 will expire on April 14, 2024. Under 36 CFR 51.23 the National Park Service proposes to extend this contract until April 14, 2025, or until the effective date of a new authorization, whichever comes first. The National Park Service has determined that the proposed extension is necessary to avoid an interruption of visitor services and has taken all reasonable and appropriate steps to consider alternatives to avoid such an interruption. The extension of the existing contract does not confer or affect any rights with respect to the award of new contracts. The publication of this notice reflects the intent of the National Park Service but does not bind the National Park Service to extend the concession contract.

Justin Unger,
Associate Director, Business Services.

[FR Doc. 2024-07674 Filed 4-10-24; 8:45 am]

BILLING CODE 4312-53-P